DEPARTMENT OF COMMERCE

International Trade Administration

[A-570-828, A-823-805]

Silicomanganese From the People's Republic of China and Ukraine: Continuation of Antidumping Duty Orders

AGENCY: Enforcement and Compliance, International Trade Administration, Department of Commerce.

SUMMARY: As a result of the determinations by the U.S. Department of Commerce (Commerce) and the U.S. International Trade Commission (ITC) that revocation of the antidumping duty (AD) orders on silicomanganese from the People's Republic of China and Ukraine would likely lead to the continuation or recurrence of dumping, and material injury to an industry in the United States, Commerce is publishing a notice of continuation of these AD orders.

DATES: Applicable November 1, 2024.

FOR FURTHER INFORMATION CONTACT: Blair Hood, AD/CVD Operations, Office I, Enforcement and Compliance, International Trade Administration, U.S. Department of Commerce, 1401 Constitution Avenue NW, Washington, DC 20230; telephone: (202) 482-8329.

SUPPLEMENTARY INFORMATION:

Background

On December 22, 1994, and August 21, 2001, Commerce published in the Federal Register the AD orders on product from the People's Republic of China and Ukraine.¹ On November 1, 2023, the ITC instituted,² and Commerce initiated,³ the fifth sunset review of the Orders, pursuant to section 751(c) of the Tariff Act of 1930, as amended (the Act). As a result of its reviews, Commerce determined that revocation of the Orders would likely lead to the continuation or recurrence of dumping, and therefore, notified the ITC of the magnitude of the margins of dumping likely to prevail should the Orders be revoked.⁴

¹ See Silicomanganese from the People's Republic of China (PRC): Antidumping Duty Order, 59 FR 66003 (December 22, 1994); and Suspension Agreement on Silicomanganese from Ukraine; Termination of Suspension Agreement and Notice of Antidumping Duty Order, 66 FR 43838 (August 21, 2001) (collectively, Orders).

² See Silicomanganese from China and Ukraine; Institution of Full Five-Year Reviews, 88 FR 75029 (November 1, 2023).

³ See Initiation of Five-Year (Sunset) Reviews, 88 FR 74977 (November 1, 2023).

⁴ See Silicomanganese from the People's Republic of China and Ukraine: Final Results of the Expedited Fifth Sunset Review of the Antidumping Duty Orders, 89 FR 16533 (March 7, 2024), and accompanying Issues and Decision Memorandum.

On November 1, 2024, the ITC published its determination, pursuant to sections 751(c) and 752(a) of the Act, that revocation of the Orders would likely lead to continuation or recurrence of material injury to an industry in the United States within a reasonably foreseeable time.⁵

⁵ See Silicomanganese from China and Ukraine, 89 FR 87412 (November 1, 2024) (ITC Final Determination).

Scope of the Orders

The product covered by the Orders is silicomanganese. Silicomanganese, which is sometimes called ferrosilicon manganese, is a ferroalloy composed principally of manganese, silicon, and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of these orders, including silicomanganese slag, fines, and briquettes. Silicomanganese is used primarily in steel production as a source of both silicon and manganese.

The merchandise subject to the Orders is currently classifiable under subheading 7202.30.0000 of the Harmonized Tariff Schedule of the United States (HTSUS). Some merchandise may also be imported under subheading 7202.99.5040. Although HTSUS subheadings are provided for convenience and U.S. Customs purposes, they do not define the scope of the Orders; rather, the written description of the subject merchandise is dispositive.

Continuation of the Orders

As a result of the determinations by Commerce and the ITC that revocation of the Orders would likely lead to continuation or recurrence of dumping and material injury to an industry in the United States, pursuant to section 751(d)(2) of the Act, Commerce hereby orders the continuation of the Orders. U.S. Customs and Border Protection will continue to collect AD cash deposits at the rates in effect at the time of entry for all imports of subject merchandise.

The effective date of the continuation of the Orders will be November 1, 2024.⁶ Pursuant to section 751(c)(2) of the Act and 19 CFR 351.218(c)(2), Commerce intends to initiate the next five-year reviews of the Orders not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: November 4, 2024.
Abdelali Elouaradia,
Deputy Assistant Secretary for Enforcement and Compliance.

[FR Doc. 2024-26027 Filed 11-7-24; 8:45 am]

BILLING CODE 3510-DS-P